DEPARTMENT OF HEALTH AND HUMAN SERVICES

National Institutes of Health

Center for Scientific Review; Amended Notice of Meeting

Notice is hereby given of a change in the meeting of the Developmental Therapeutics Study Section, October 07, 2013, 08:00 a.m. to October 08, 2013, 05:00 p.m., Hotel Monaco Alexandria, 480 King Street, Alexandria, VA 22314 which was published in the Federal Register on September 10, 2013, 78 FR 55269.

The meeting will start on November 21, 2013 at 07:00 p.m. and end on November 22, 2013 at 06:00 p.m. The meeting location remains the same. The meeting is closed to the public.

Dated: October 25, 2013.
Carolyn A. Baum,
Program Analyst, Office of Federal Advisory Committee Policy.

[FR Doc. 2013-25677 Filed 10-29-13; 8:45 am]

BILLING CODE 4140-01-P